DEPARTMENT OF HEALTH AND HUMAN SERVICES

Centers for Disease Control and Prevention

[30Day-07-0469]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

National Program of Cancer Registries—Cancer Surveillance System—Extension (OMB number 0920-0469)-National Center for Chronic Disease Prevention and Health Promotion (NCCDPHP), Centers for Disease Control and Prevention (CDC).

Background and Brief Description

The American Cancer Society estimated that about 1.37 million Americans were newly diagnosed with cancer in 2005 and that about 570,000 died from cancer in that same year. The National Institutes of Health estimates that in 2005, the cost of cancer was about $209 billion, including $74 billion direct costs to treat cancer, and $136 billion indirect costs in lost productivity due to illness and premature death.

In 2002, CDC implemented the National Program of Cancer Registries (NPCR)—Cancer Surveillance System (CSS) to collect, evaluate and disseminate cancer incidence data collected by population-based cancer registries. In 2002, CDC began annually publishing United States Cancer Statistics (USCS). The latest USCS report published in 2005 provided cancer statistics for 93% of the United States population from all cancer registries whose data met national data standards. Prior to the publication of USCS, at the national level, cancer incidence data were available for only 14% of the population of the United States.

With this expanded coverage of the U.S. population, it will now be possible to better describe geographic variation in cancer incidence throughout the country and provide incidence data on minority populations and rare cancers to further plan and evaluate state and national cancer control and prevention efforts.

Therefore, CDC's Division of Cancer Prevention and Control proposes to continue to aggregate existing cancer incidence data from states funded by the National Program of Cancer Registries into a national surveillance system.

These data are already collected and aggregated at the state level, thus, the additional burden for the states is small. Funded states are asked to continue to report cancer incidence data to CDC on an annual basis. Each state is requested to report a cumulative file containing incidence data from the first diagnosis year for which the cancer registry collected data with the assistance of NPCR funds (e.g., 1995) through 12 months past the close of the most recent diagnosis year (e.g., 2004).

NCCDPHP is requesting a 3 year clearance for this project. The total number of eligible respondents is 63 which includes 50 States, 12 territories, and the District of Columbia. The total estimated annualized burden hours are 126 (i.e., 2 hours per respondent). There are no costs to the respondents other than their time.

Estimated Annualized Burden Hours
Respondents | Number of respondents | Number of responses per respondent | Average burden per response (in hours)
States, Territories, and the District of Columbia (Cancer Registries) | 63 | 1 | 2

Dated: November 8, 2006.
Joan F. Karr,
Acting Reports Clearance Officer, Centers for Disease Control and Prevention.

[FR Doc. E6-19261 Filed 11-14-06; 8:45 am]

BILLING CODE 4163-18-P